DEPARTMENT OF THE INTERIOR

National Park Service

[2253-665]

Notice of Inventory Completion: University of Massachusetts, Department of Anthropology, Amherst, MA and Nantucket Historical Association, Nantucket, MA

AGENCY: National Park Service, Interior.

ACTION: Notice.

Notice is here given in accordance with the Native American Graves Protection and Repatriation Act (NAGPRA), 25 U.S.C. 3003, of the completion of an inventory of human remains and associated funerary object in the possession of the University of Massachusetts, Department of Anthropology, Amherst, MA, and the Nantucket Historical Association, Nantucket, MA. The human remains and associated funerary object were removed from the Marshall Site, Nantucket County, MA.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

A detailed assessment of the human remains was made by University of Massachusetts, Department of Anthropology, professional staff in consultation with representatives of the Wampanoag Repatriation Confederation, representing the Mashpee Wampanoag Tribe, Massachusetts; Wampanoag Tribe of Gay Head (Aquinnah) of Massachusetts; and the Assonet Band of the Wampanoag Nation, Massachusetts, a non-Federally recognized Indian group.

In 1966, human remains representing a minimum of three individuals were removed from the Marshall Site, Nantucket, Nantucket County, MA, during an archeological field school conducted by Professor William Harrison of the University of Massachusetts. It is believed that the two grave shafts were originally one multiple interment that was disturbed by the repeated digging of shallow fire pits. No known individuals were identified. The one associated funerary object is a pottery vessel. In 1989, the vessel was transferred to the Nantucket Historical Association for permanent curation and is no longer in the control of the University of Massachusetts, Department of Anthropology, instead it is in the control of the Nantucket Historical Association.

Based on excavation records, condition of the human remains, the associated funerary object and burial methods, the individuals have been identified as Native American. Material culture and site features indicate that the Marshall Site was utilized for short-term, sporadic occupations from the late Archaic/early Woodland period into the 19th century. The human remains most likely date to the late Woodland Period or later (post-A.D. 1000).

Ethnohistoric documents, including European colonial maps, missionary accounts and Wampanoag oral history, indicate that the Wampanoag people and their allies, through marriage and war pacts (e.g. 1675 King Phillip's War), were occupants of Massachusetts and Rhode Island at the time of contact and European colonization. Wampanoag oral history indicates a maintained, long-term occupation of the region to which can be traced a common ancestry to a “first Mother,” predating the colonization of the area including the Marshall Site. The present-day Indian tribes and group that are most closely affiliated with members of the Wampanoag Nation are the Mashpee Wampanoag Tribe, Massachusetts; Wampanoag Tribe of Gay Head (Aquinnah) of Massachusetts; and the Assonet Band of the Wampanoag Nation, Massachusetts, a non-Federally recognized Indian group.

Officials of the University of Massachusetts, Department of Anthropology, have determined, pursuant to 25 U.S.C. 3001(9), that the human remains described above represent the physical remains of three individuals of Native American ancestry. Officials of the University of Massachusetts, Department of Anthropology, and Nantucket Historical Association also have determined, pursuant to 25 U.S.C. 3001(3)(A), that the one object described above is reasonably believed to have been placed with or near individual human remains at the time of death or later as part of the death rite or ceremony. Lastly, officials of the University of Massachusetts, Department of Anthropology, and Nantucket Historical Association have determined, pursuant to 25 U.S.C. 3001(2), that there is a relationship of shared group identity that can be reasonably traced between the Native American human remains and the associated funerary object and the Mashpee Wampanoag Tribe, Massachusetts; Wampanoag Tribe of Gay Head (Aquinnah) of Massachusetts; and the Assonet Band of the Wampanoag Nation, Massachusetts, a non-Federally recognized Indian group.

Representatives of any other Indian tribe that believes itself to be culturally affiliated with the human remains should contact either Robert Paynter, Repatriation Committee Chair, telephone (413) 545-2221, or Rae Gould, Repatriation Coordinator, telephone (413) 545-2702, University of Massachusetts, Department of Anthropology, 201 Machmer Hall, 240 Hicks Way, Amherst, MA 01003, and any representatives of any other Indian tribe that believes itself to be culturally affiliated with the associated funerary object should contact Ben Simons, Chief Curator, Nantucket Historical Association, P.O. Box 1016, Nantucket, MA 02554, telephone (508) 228-1894, ext. 303, before April 14, 2011. Repatriation of the human remains and associated funerary object to the Wampanoag Repatriation Confederation on behalf of the Mashpee Wampanoag Tribe, Massachusetts; Wampanoag Tribe of Gay Head (Aquinnah) of Massachusetts; and the Assonet Band of the Wampanoag Nation, Massachusetts, a non-Federally recognized Indian group, may proceed after that date if no additional claimants come forward.

The University of Massachusetts, Department of Anthropology, and Nantucket Historical Association are responsible for notifying the Mashpee Wampanoag Tribe, Massachusetts; Wampanoag Tribe of Gay Head (Aquinnah) of Massachusetts; and Assonet Band of the Wampanoag Nation, Massachusetts, a non-Federally recognized Indian group, that this notice has been published.

Dated: March 9, 2011.
Sherry Hutt,
Manager, National NAGPRA Program.

[FR Doc. 2011-5887 Filed 3-14-11; 8:45 am]

BILLING CODE 4312-50-P